FEDERAL ELECTION COMMISSION

Sunshine Act Meetings

TIME AND DATE: Thursday, October 5, 2023 at 10:30 a.m.

PLACE: Hybrid meeting: 1050 First Street NE Washington, DC (12th floor) and virtual. Note: For those attending the meeting in person, current COVID-19 safety protocols for visitors, which are based on the CDC COVID-19 hospital admission level in Washington, DC, will be updated on the Commission's contact page by the Monday before the meeting. See the contact page at https://www.fec.gov/contact/. If you would like to virtually access the meeting, see the instructions below.

STATUS: This meeting will be open to the public, subject to the above-referenced guidance regarding the COVID-19 hospital admission level and corresponding health and safety procedures. To access the meeting virtually, go to the commission's website www.fec.gov and click on the banner to be taken to the meeting page.

MATTERS TO BE CONSIDERED:

Proposed Directive Regarding Investigations Conducted by the Office of General Counsel

Audit Division Recommendation Memorandum on Citizens for Waters (A21-01)

Management and Administrative Matters

Additional Information:

This meeting will be cancelled if the Commission is not open due to a funding lapse.

CONTACT PERSON FOR MORE INFORMATION: Judith Ingram, Press Officer, Telephone: (202) 694-1220.

Individuals who plan to attend in person and who require special assistance, such as sign language interpretation or other reasonable accommodations, should contact Laura E. Sinram, Secretary and Clerk, at (202) 694-1040 or secretary@fec.gov, at least 72 hours prior to the meeting date.

(Authority: Government in the Sunshine Act, 5 U.S.C. 552b)

Vicktoria J. Allen,
Deputy Secretary of the Commission.

[FR Doc. 2023-21715 Filed 9-27-23; 4:15 pm]

BILLING CODE 6715-01-P